FEDERAL COMMUNICATIONS COMMISSION

[DA 01-58]

Public Safety 700 MHz Band

AGENCY: Federal Communications Commission.

ACTION: Notice.

SUMMARY: On January 10, 2001, the Commission's Wireless Telecommunications Bureau (WTB) released a public notice announcing that July 2, 2001, is the deadline by which states must indicate their decision to “opt out” of existing (800 MHz) planning regions for Public Safety 700 MHz band regional planning. This action is necessary because the Commission directed the WTB to issue a public notice that addresses regional planning committee implementation matters including the deadline date for reporting the exercise of “opt out” decisions. The intended effect of this action is to make all interested persons aware of the deadline date.

DATES: Opt out decisions must be reported to the WTB by July 2, 2001.

ADDRESS: Opt out decisions must be reported in letter format addressed to Chief, Public Safety and Private Wireless Division, WTB, and must be signed by the convener or elected chairperson of the RPC. Opt out letters should be submitted to: Federal Communications Commission, WTB/Public Safety and Private Wireless Division, 445 12th Street, SW., Room 4-C330, Washington, DC 20554 (Re: 700 MHz RPC).

FOR FURTHER INFORMATION CONTACT: For additional information, contact Joy Alford, Public Safety and Private Wireless Division at (202) 418-0680 or by e-mail: publicsafety@fcc.gov.

SUPPLEMENTARY INFORMATION: Following is a summary of Public Notice, DA 01-58 (rel. Jan 10, 2001). In 1998, the FCC decided that the 700 MHz regional planning committees (RPCs) would be based on the same fifty-five 800 MHz planning regions. However, the FCC also decided to allow states or territories not in regions defined by state boundaries to opt out of their existing regions to form or join a planning region that follows their state's boundaries. Prior to taking advantage of this option, the 800 MHz RPC chair must appoint a local convener who is responsible for organizing and publicizing the first 700 MHz RPC meeting. At the first meeting, RPC members from a state seeking to opt out must reach a consensus decision to opt out of the region and form a new RPC that would correlate to its state's geographic boundaries. States that do not file an opt out report by the deadline date will continue to be included in their existing planning regions. No report is necessary for planning regions that are unchanged. After WTB's receipt and review of opt out reports, it will issue a public notice(s) to confirm timely-filed opt out decisions. After an opt out decision is confirmed, the new or modified RPC is authorized to begin the planning process, absent further action by WTB. The full text of the Public Notice is available for inspection and copying during normal business hours in the FCC Reference Center, Room CY-A257, 12th Street, SW., Washington, DC; it may also be purchased from the Commission's copy contractor, International Transcription Service, Inc., 1231 20th Street, NW., Washington, DC 20037. The full text of the Public Notice, including a list and map of the 55 planning regions and an attachment entitled “Opt Out” Decisions—By State, is available online at www.fcc.gov/Bureaus/Wireless/Public_Notices/2001/da010058.doc. Alternative formats are available to persons with disabilities by contacting Martha Contee at (202) 418-0260 or TTY (202) 418-2555.

Federal Communications Commission.
D'wana R. Terry,
Chief, Public Safety and Private Wireless Division.

[FR Doc. 01-5515 Filed 3-6-01; 8:45 am]

BILLING CODE 6712-01-U